ENVIRONMENTAL PROTECTION AGENCY

[FRL OP-OFA-034]

Environmental Impact Statements; Notice of Availability

Responsible Agency: Office of Federal Activities, General Information 202-564-5632 or https://www.epa.gov/nepa.

Weekly receipt of Environmental Impact Statements (EIS) Filed August 29, 2022 10 a.m. EST Through September 2, 2022 10 a.m. EST Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20220132, Draft, BIA, NV, Yahthumb Solar Project, Comment Period Ends: 10/24/2022, Contact: Chip Lewis 602-379-6750.

EIS No. 20220133, Final, WAPA, AZ, ADOPTION—Final Environmental Impact Statement and Proposed Resource Management Plan Amendments for the Ten West Link Transmission Line Project, Contact: Mark Wieringa 720-962-7448.

The Western Area Power Administration (WAPA) has adopted the Bureau of Land Management's Final EIS No. 20190223, filed 9/5/2019 with the Environmental Protection Agency. The WAPA was a cooperating agency on this project. Therefore, republication of the document is not necessary under section 1506.3(b)(2) of the CEQ regulations.

Dated: September 2, 2022.
Cindy S. Barger,
Director, NEPA Compliance Division, Office of Federal Activities.

[FR Doc. 2022-19482 Filed 9-8-22; 8:45 am]

BILLING CODE 6560-50-P